DEPARTMENT OF COMMERCE

International Trade Administration

[A-533-881]

Large Diameter Welded Pipe From India: Final Determination of Sales at Less Than Fair Value; 2017

AGENCY: Enforcement and Compliance, International Trade Administration, Department of Commerce.

SUMMARY: The Department of Commerce (Commerce) determines that imports of large diameter welded pipe from India are being, or are likely to be, sold in the United States at less than fair value (LTFV) for the period of investigation January 1, 2017, through December 31, 2017

DATES: Applicable November 14, 2018.

FOR FURTHER INFORMATION CONTACT: Kate Johnson at (202) 482-4929 or Jaron Moore at (202) 482-3640, AD/CVD Operations, Office VIII, Enforcement and Compliance, International Trade Administration, U.S. Department of Commerce, 1401 Constitution Avenue NW, Washington, DC 20230.

SUPPLEMENTARY INFORMATION:

Background

On August 27, 2018, Commerce published in the Federal Register the Preliminary Determination of sales at LTFV of large diameter welded pipe from India and invited interested parties to comment.¹ We received comments from the petitioners,² agreeing with our affirmative preliminary determination to apply total adverse facts available (AFA) to the non-responsive companies.³ No other interested party submitted comments. Accordingly, we made no changes to the Preliminary Determination.

¹ See Large Diameter Welded Pipe from India: Preliminary Determination of Sales at Less Than Fair Value, 83 FR 43653 (August 27, 2018) (Preliminary Determination) and accompanying Preliminary Decision Memorandum.

² The petitioners are American Cast Iron Pipe Company, Berg Steel Pipe Corp., Berg Spiral Pipe Corp., Dura-Bond Industries, and Stupp Corporation, individually and as members of American Line Pipe Producers Association; Greens Bayou Pipe Mill, LP; JSW Steel (USA) Inc.; Skyline Steel; and Trinity Products LLC.

³ See Petitioners Letter, “Case Brief of Petitioners,” dated September 26, 2018.

Period of Investigation

The period of investigation is January 1, 2017, through December 31, 2017.

Scope of the Investigation

The product covered by this investigation is large diameter welded pipe from India. For a full description of the scope of this investigation, see the “Scope of the Investigation,” at the Appendix to this notice.

Scope Comments

During the course of this investigation and the concurrent LTFV investigations of large diameter welded pipe from Canada, Greece, Korea, the People's Republic of China (China) and Turkey, and the concurrent countervailing duty investigations of large diameter welded pipe from China, India, Korea and Turkey, Commerce received scope comments from interested parties. Commerce issued a Preliminary Scope Decision Memorandum ⁴ to address these comments. In the Preliminary Determination, Commerce set aside a period of time for parties to address scope issues in scope case and rebuttal briefs. No interested parties submitted scope comments in scope case or scope rebuttal briefs. Therefore, for this final determination, the scope of this investigation remains unchanged from that published in the Preliminary Determination.

⁴ See Memorandum, “Scope Comments Decision Memorandum for the Preliminary Determinations,” dated June 19, 2018 (Preliminary Scope Decision Memorandum).

Use of Adverse Facts Available

The mandatory respondents Bhushan Steel (Bhushan) and Welspun Trading Limited (Welspun) failed to participate in this investigation.⁵ Therefore, in the Preliminary Determination, pursuant to sections 776(a)(1), 776(a)(2)(A)-(C), and 776(b) of the Act, we determined for Bhushan and Welspun an estimated dumping rate based on AFA. No parties filed comments in opposition to our Preliminary Determination with respect to Bhushan and Welspun and there are no comments or information on the record that would cause us to revisit our preliminary AFA determinations. Accordingly, we continue to find that the application of AFA pursuant to sections 776(a) and (b) of the Act is warranted with respect to Bhushan and Welspun. In applying total AFA, we have determined for Bhushan's and Welspun's exports of the subject merchandise an estimated dumping margin of 50.55 percent, which is the only dumping margin alleged in the Petition ⁶ and which has been corroborated to the extent practicable within the meaning of section 776(c) of the Act.⁷

⁵ See Preliminary Determination Memorandum at 4-8.

⁶ See Petitions for the Imposition of Antidumping and Countervailing Duties: Large Diameter Welded Pipe from Canada, Greece, India, the People's Republic of China, the Republic of Korea, and the Republic of Turkey, dated January 17, 2018 (Petition).

⁷ See Preliminary Determination Memorandum at 7-8.

All-Others Rate

As discussed in the Preliminary Determination, Commerce based the “All-Others” rate on the only dumping margin alleged in the Petition,⁸ in accordance with section 735(c)(5)(B) of the Act. We made no changes to the selection of this rate for this final determination.

⁸ See Petition; see also Preliminary Determination Memorandum at 8-9.

Final Determination

The final estimated dumping margins are as follows:

Exporter/producer | Dumping margin (percent) | Cash deposit rate (adjusted for export subsidies offset) (percent)
Bhushan Steel | 50.55 | 16.85
Welspun Trading Limited | 50.55 | 16.85
All-Others | 50.55 | 16.85

Continuation of Suspension of Liquidation

In accordance with section 735(c)(1)(B) of the Act, for this final determination, we will direct U.S. Customs and Border Protection (CBP) to continue to suspend liquidation of all entries of large diameter welded pipe from India, as described in the Appendix to this notice, which are entered, or withdrawn from warehouse, for consumption on or after August 27, the date of publication in the Federal Register of the affirmative Preliminary Determination.

Pursuant to section 735(c)(1)(B)(ii) of the Act and 19 CFR 351.210(d), Commerce will instruct CBP to require a cash deposit for such entries of merchandise equal to the estimated dumping margin, as follows: (1) The cash deposit rate for the respondents listed above will be equal to the respondent-specific estimated dumping margin determined in this final determination; (2) if the exporter is not a respondent identified above but the producer is, then the cash deposit rate will be equal to the respondent-specific estimated weighted-average dumping margin established for that producer of the subject merchandise; and (3) the cash deposit rate for all other producers or exporters will be equal to the estimated dumping margin for all other producers or exporters. These suspension-of-liquidation instructions will remain in effect until further notice.

Commerce normally adjusts the estimated weighted-average dumping margin by the amount of export subsidies countervailed in a companion countervailing duty (CVD) proceeding, when CVD provisional measures are in effect. Accordingly, where Commerce has made a final affirmative determination for countervailable export subsidies,⁹ Commerce offsets the estimated weighted-average dumping margin by the appropriate CVD rate. Any such adjusted rates may be found in the “Final Determination” section, above. However, provisional measures expired in the companion countervailing duty investigation on October 26, 2018. Accordingly, we will direct CBP to collect the estimated antidumping cash deposits unadjusted for countervailed export subsidies. In the event of an affirmative determination by the International Trade Commission (ITC), Commerce will issue antidumping and countervailing duty orders and direct CBP to collect the cash deposit rate, as adjusted for export subsidies.

⁹ See the unpublished Federal Register notice, Large Diameter Welded Pipe from India: Final Affirmative Countervailing Duty Determination, dated concurrently with this notice.

Disclosure

The dumping margins assigned to the mandatory respondents in this investigation are based on AFA. As these margins are based on the dumping margin alleged in the Petition, and because we made no changes to the Preliminary Determination, there are no calculations to disclose for this final determination.

International Trade Commission Notification

In accordance with section 735(d) of the Act, we will notify ITC of the final affirmative determination of sales at LTFV. In addition, we are making available to the ITC all non-privileged and non-proprietary information related to this investigation. We will allow the ITC access to all privileged and business proprietary information in our files, provided the ITC confirms that it will not disclose such information, either publicly or under an administrative protective order (APO), without the written consent of the Assistant Secretary for Enforcement and Compliance. Because Commerce's final determination is affirmative, in accordance with section 735(b)(2) of the Act, the ITC will make its final determination as to whether the domestic industry in the United States is materially injured, or threatened with material injury, by reason of imports or sales (or the likelihood of sales) for importation of large diameter welded pipe, no later than 45 days after this final determination. If the ITC determines that such injury does not exist, this proceeding will be terminated, and all cash deposits posted will be refunded. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

In the event that the ITC issues a final negative injury determination, this notice will serve as the only reminder to parties subject to an administrative protective order (APO) of their responsibility concerning the destruction of proprietary information disclosed under APO in accordance with 19 CFR 351.305(a)(3). Timely written notification of return or destruction of APO materials, or conversion to judicial protective order, is hereby requested. Failure to comply with the regulations and terms of an APO is a sanctionable violation.

Notification to Interested Parties

This determination is issued and published in accordance with sections 735(d) and 777(i)(1) of the Act and 19 CFR 351.210(c).

Dated: November 5, 2018.
Gary Taverman,
Deputy Assistant Secretary for Antidumping and Countervailing Duty Operations, performing the non-exclusive functions and duties of the Assistant Secretary for Enforcement and Compliance.

Appendix

Scope of the Investigation

The merchandise covered by this investigation is welded carbon and alloy steel pipe (including stainless steel pipe), more than 406.4 mm (16 inches) in nominal outside diameter (large diameter welded pipe), regardless of wall thickness, length, surface finish, grade, end finish, or stenciling. Large diameter welded pipe may be used to transport oil, gas, slurry, steam, or other fluids, liquids, or gases. It may also be used for structural purposes, including, but not limited to, piling. Specifically, not included is large diameter welded pipe produced only to specifications of the American Water Works Association (AWWA) for water and sewage pipe.

Large diameter welded pipe used to transport oil, gas, or natural gas liquids is normally produced to the American Petroleum Institute (API) specification 5L. Large diameter welded pipe may also be produced to American Society for Testing and Materials (ASTM) standards A500, A252, or A53, or other relevant domestic specifications, grades and/or standards. Large diameter welded pipe can be produced to comparable foreign specifications, grades and/or standards or to proprietary specifications, grades and/or standards, or can be non-graded material. All pipe meeting the physical description set forth above is covered by the scope of this investigation, whether or not produced according to a particular standard.

Subject merchandise also includes large diameter welded pipe that has been further processed in a third country, including but not limited to coating, painting, notching, beveling, cutting, punching, welding, or any other processing that would not otherwise remove the merchandise from the scope of the investigation if performed in the country of manufacture of the in-scope large diameter welded pipe.

The large diameter welded pipe that is subject to this investigation is currently classifiable in the Harmonized Tariff Schedule of the United States (HTSUS) under subheadings 7305.11.1030, 7305.11.1060, 7305.11.5000, 7305.12.1030, 7305.12.1060, 7305.12.5000, 7305.19.1030, 7305.19.1060, 7305.19.5000, 7305.31.4000, 7305.31.6010, 7305.31.6090, 7305.39.1000 and 7305.39.5000. While the HTSUS subheadings are provided for convenience and customs purposes, the written description of the scope of this investigation is dispositive.

[FR Doc. 2018-24806 Filed 11-13-18; 8:45 am]

BILLING CODE 3510-DS-P